ENVIRONMENTAL PROTECTION AGENCY

40 CFR Part 63

[EPA-HQ-OAR-2010-1042; FRL-9621-3]

RIN 2060-AQ90

National Emissions Standards for Hazardous Air Pollutants: Mineral Wool Production and Wool Fiberglass Manufacturing

AGENCY: Environmental Protection Agency (EPA).

ACTION: Proposed rule; Notice of extension of public comment period.

SUMMARY: The EPA published in the Federal Register on November 25, 2011, the proposed rules, “National Emission Standards for Hazardous Air Pollutants: Mineral Wool Production and Wool Fiberglass Manufacturing.” The EPA was asked to hold a public hearing only on the wool fiberglass manufacturing proposed rule, and on December 20, 2011, published a notice announcing the hearing and extending the comment period for only the wool fiberglass manufacturing proposed rule (76 FR 78872). The comment period for the mineral wool production proposed rule was not extended because no public hearing was requested and no requests for an extension of the comment period were received. It has come to our attention that confusion arose from the result of having two different comment periods for the two proposed rules in the same action. Therefore, the EPA is extending the public comment period for the mineral wool production proposed rule for 10 days from January 24, 2012 to February 3, 2012, so that comments on both rules in this action are due on the same date.

DATES: Comments must be received by February 3, 2012.

FOR FURTHER INFORMATION CONTACT: Questions concerning the November 25, 2011, proposed rule should be addressed to Susan Fairchild, Office of Air Quality Planning and Standards, Sector Policies and Programs Division (D 243-04), Environmental Protection Agency, Research Triangle Park, North Carolina 27711; telephone number: (919) 541-5167; facsimile number: (919) 541-3207; email address: Fairchild.susan@epa.gov.

The proposal for the Mineral Wool Production and Wool Fiberglass Manufacturing NESHAP was published in the Federal Register on November 25, 2011, and is available at: http://www.epa.gov/ttn/atw/rrisk/rtrpg.html and also in the docket identified below.

How can I get copies of this document and other related information?

The EPA has established dockets for the proposed rules, “National Emission Standards for Hazardous Air Pollutants: Mineral Wool Production Risk and Technology Review,” under No. EPA-HQ-OAR-2010-1041; and “National Emission Standards for Hazardous Air Pollutants: Wool Fiberglass Manufacturing Risk and Technology Review,” under No. EPA-HQ-OAR-2010-1042. Both dockets are available at www.regulations.gov.

List of Subjects in 40 CFR Part 63

Environmental protection, Administrative practice and procedure, Air pollution control, Hazardous substances, Intergovernmental relations, Reporting and recordkeeping requirements.

Dated: January 17, 2012.
Gina McCarthy,
Assistant Administrator.

[FR Doc. 2012-1222 Filed 1-20-12; 8:45 am]

BILLING CODE 6560-50-P